DEPARTMENT OF THE INTERIOR

Minerals Management Service

Agency Information Collection Activities: Submitted for Office of Management and Budget (OMB) Review; Comment Request

AGENCY: Minerals Management Service (MMS), Interior.

ACTION: Notice of extension of a currently approved information collection (OMB Control Number 1010-0091).

SUMMARY: To comply with the Paperwork Reduction Act of 1995 (PRA), we are submitting to OMB for review and approval an information collection request (ICR) titled “30 CFR Part 254, Oil-Spill Response Requirements for Facilities Located Seaward of the Coast Line.” We are also soliciting comments from the public on this ICR.

DATES: Submit written comments by September 20, 2000.

ADDRESSES: You may submit comments directly to the Office of Information and Regulatory Affairs, OMB, Attention: Desk Officer for the Department of the Interior (1010-0091), 725 17th Street, NW., Washington, DC 20503. Mail or hand carry a copy of your comments to the Department of the Interior, Minerals Management Service, Attention: Rules Processing Team, Mail Stop 4024, 381 Elden Street; Herndon, Virginia 20170-4817.

Our practice is to make comments, including names and home addresses of respondents, available for public review during regular business hours. Individual respondents may request that we withhold their home address from the rulemaking record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain at no cost a copy of our submission to OMB, which includes the regulations that require this information to be collected.

SUPPLEMENTARY INFORMATION: Title: 30 CFR Part 254, Oil-Spill Response Requirements for Facilities Located Seaward of the Coast Line.

OMB Control Number: 1010-0091.

Abstract: The Federal Water Pollution Control Act, as amended by the Oil Pollution Act of 1990 (OPA), requires that a spill-response plan be submitted for offshore facilities prior to February 18, 1993. The OPA specifies that after that date, an offshore facility may not handle, store, or transport oil unless a plan has been submitted. Regulations at 30 CFR part 254 establish requirements for spill-response plans for oil-handling facilities seaward of the coast line, including associated pipelines.

We use the information collected under 30 CFR part 254 to determine compliance with OPA by owners/operators. Specifically, MMS needs the information to:

• Determine effectiveness of the spill-response capability of owners/operators;

• Review plans prepared under the regulations of a State and submitted to MMS to satisfy the requirements of this rule to ensure that they meet minimum requirements of OPA;

• Verify that personnel involved in oil-spill response are properly trained and familiar with the requirements of the spill response plans and to witness spill-response exercises;

• Assess the sufficiency and availability of contractor equipment and materials;

• Verify that sufficient quantities of equipment are available and in working order;

• Oversee spill-response efforts and maintain official records of pollution events; and

• Assess the efforts of owners/operators to prevent oil spills or prevent substantial threats of such discharges.

Responses are mandatory. No proprietary, confidential, or sensitive information is collected.

Frequency: The frequency varies by regulatory requirement, but is mostly annual or on occasion.

Estimated Number and Description of Respondents: Primarily approximately 197 owners or operators of facilities located in both State and Federal waters seaward of the coast line and 3 oil spill response companies.

Estimated Annual Reporting and Recordkeeping “Hour” Burden: 42,233 burden hours (refer to burden chart).

Estimated Annual Reporting and Recordkeeping “Non-Hour Cost” Burden: We have identified no non-hour cost burdens for this collection.

Burden Breakdown
Citation 30 CFR 254 | Reporting requirement | Annual number | Burden (in hours) | Annual burden hours
254.1(a)-(d); 254.2(a); 254.3 thru 254.5; 254.7; 254.20 thru 254.29; 254.44(b) | Submit spill response plan for OCS facilities and related documents | 25 new plans | 120 | 3,000
254.1(e) | Request MMS jurisdiction over facility landward of coast line (no recent request received) | 2 requests | .5 | 1
254.2(b) | Submit certification of capability to respond to worst case discharge or substantial threat of such | 12 certifications | 10 | 120
254.2.(c); 254.30 | Submit revised spill response plan for OCS facilities at least every 2 years | 170 revised plans | 25 | 4,250
254.8 | Appeal MMS orders or decisions | Burden covered under 30 CFR 290 (1010-0121). |  | 0
254.42(f) | Inform MMS of the date of any exercise (triennial) | 244 notifications | 1 | 244
254.46(a) | Notify NRC of all oil spills from owner/operator facility | Burden would be included in the NRC inventory. |  | 0
254.46(b) | Notify MMS of oil spills of one barrel or more from owner/operator facility; submit follow-up report | 59 notifications & reports | 1 | 59
254.46(c) | Notify MMS & responsible party of oil spills from operations at another facility | 23 notifications | 1 | 23
254.50; 254.51 | Submit response plan for facility in State waters by modifying existing OCS plan | 9 plans | 45 | 405
254.50; 254.52 | Submit response plan for facility in State waters following format for OCS plan | 9 plans | 100 | 900
254.50; 254.53 | Submit response plan for facility in State waters developed under State reqmts | 15 plans | 93 | 1,395
254.54 | Submit description of oil-spill prevention procedures | 36 submissions | 5 | 180
Reporting—Subtotal |  | 604 Responses |  | 10,577
254.41 | Conduct annual training; retain training records for 2 years | 197 owners/operators | 40 | 7,880
254.42(a) thru (e) | Conduct triennial response plan exercise; retain exercise records for 3 years | 206 exercises | 110 | 22,660
254.43 | Inspect response equipment monthly; retain inspection & maintenance records for 2 years | 31 inspections × 12 months = 372 | 3 | 1,116
Recordkeeping—Subtotal |  | 197 Recordkeepers (RKs) | 3 | 31,656
Total Hour Burden |  | 801 Responses/RKs |  | 42,233

Comments: The PRA (44 U.S.C. 3501, et seq.) provides that an agency may not conduct or sponsor, and a person is not required to respond to, a collection of information unless it displays a currently valid OMB control number. Section 3506(c)(2)(A) of the PRA requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on May 25, 2000, we published a Federal Register notice (65 FR 3826) with the required 60-day comment period announcing that we would submit this ICR to OMB for approval. In addition, § 254.9 displays the OMB control number, specifies that the public may comment at anytime on the collection of information required in the 30 CFR part 254 regulations, and provides the address to which they should send comments. We have received no comments in response to those efforts. We also consulted with several respondents and adjusted some of the information collection burdens as a result of those consultations.

If you wish to comment in response to this notice, send your comments directly to the offices listed under the ADDRESSES section of this notice. The OMB has up to 60 days to approve or disapprove the information collection but may respond after 30 days. Therefore, to ensure maximum consideration, OMB should receive public comments by September 20, 2000.

MMS Information Collection Clearance Officer: Jo Ann Lauterbach, (202) 208-7744.

Dated: August 3, 2000.
John V. Mirabella,
Acting Chief, Engineering and Operations Division.

[FR Doc. 00-21212 Filed 8-18-00; 8:45 am]

BILLING CODE 4310-MR-U